GENERAL SERVICES ADMINISTRATION

[FMR Bulletin 2004-B2]

Federal Management Regulation; Redesignations of Federal Buildings

AGENCY: Public Buildings Service (P), GSA.

ACTION: Notice of a bulletin.

SUMMARY: The attached bulletin announces the redesignations of two Federal Buildings.

EFFECTIVE DATE: This bulletin expires December 21, 2004. However, the building redesignations announced by this bulletin will remain in effect until canceled or superseded.

FOR FURTHER INFORMATION CONTACT: Paul Chistolini, General Services Administration, Public Buildings Service (P), Washington, DC 20405; e-mail, paul.chistolini@gsa.gov, telephone (202) 501-1100.

Dated: July 23, 2004.
Stephen A. Perry,
Administrator of General Services.

GENERAL SERVICES ADMINISTRATION

[FMR Bulletin 2004-B2]

Federal Management Regulation; Redesignations of Federal Buildings

TO: Heads of Federal Agencies

SUBJECT: Redesignations of Federal Buildings

1. What is the purpose of this bulletin? This bulletin announces the redesignations of two Federal Buildings.

2. When does this bulletin expire? This bulletin expires December 21, 2004. However, the building redesignations announced by this bulletin will remain in effect until canceled or superseded.

3. Redesignations. The former and new names of the buildings being redesignated are as follows:

Former name | New name
Federal Building, United States Post Office and Courthouse, 911 Jackson Street, Oxford, MS 38655 | United States Courthouse, 911 Jackson Street, Oxford, MS 38655.
United States Post Office, 200 W. Broad Street, Statesville, NC 28677 | United States Courthouse, 200 W. Broad Street, Statesville, NC 28677.

4. Who should we contact for further information regarding redesignations of these Federal Buildings?

General Services Administration, Public Buildings Service, Office of the Commissioner, Attn: Paul Chistolini, 1800 F Street, NW., Washington, DC 20405, Telephone Number: (202) 501-1100, E-mail Address: paul.chistolini @gsa.gov.

[FR Doc. 04-17574 Filed 8-2-04; 8:45 am]

BILLING CODE 6820-23-S